DEPARTMENT OF HEALTH AND HUMAN SERVICES

Administration for Children and Families

Office of Refugee Resettlement; Statement of Organization, Functions, and Delegations of Authority

AGENCY: Administration for Children and Families, HHS.

ACTION: Notice.

SUMMARY: Statement of Organizations, Functions, and Delegations of Authority. The Administration for Children and Families (ACF) has reorganized the Office of Refugee Resettlement (ORR). Based on internal evaluation and feedback from external stakeholders related to making ORR programs more efficient, responsive, and better organized to meet ORR's statutory obligations, this reorganization aims to increase efficiencies and better align organizational structures with programmatic requirements and to increase the effectiveness of all ORR programs. To accomplish those goals, this reorganization realigns ORR's four current programmatic divisions to create two dedicated program offices, the Refugee Programs and the Unaccompanied Children Programs. Within the Unaccompanied Children Programs, it renames the Division of Children's Services to the Division of Unaccompanied Children Operations and creates two new divisions, the Division of Planning and Logistics, and the Division of Unaccompanied Children's Health. It also renames the Division of Policy to the Division of Policy and Procedures and changes the Budget Team to the Division of Strategic Planning, Budget, and Analysis.

FOR FURTHER INFORMATION CONTACT: Robert Carey, Office of Refugee Resettlement, 330 C Street SW., Washington, DC 20201, (202) 401-4556.

This notice amends Part K of the Statement of Organization, Functions, and Delegations of Authority of the Department of Health and Human Services (HHS), Administration for Children and Families (ACF), as follows: Chapter KR, Office of Refugee Resettlement, as last amended by 80 FR 33269-33270, June 11, 2015.

I. Under Chapter KR, Office of Refugee Resettlement, delete KR.10 Organization in its entirety and replace with the following:

KR.10 Organization. The Office of Refugee Resettlement (ORR) is headed by a Director who reports directly to the Assistant Secretary for Children and Families. The Office is organized as follows:

Office of the Director (KRA)

Division of Policy and Procedures (KRA1)

Division of Strategic Planning, Budget and Analysis (KRA2)

Refugee Programs (KRB)

Division of Refugee Assistance (KRB1)

Division of Refugee Services (KRB2)

Division of Refugee Health (KRB3)

Unaccompanied Children Programs (KRC)

Division of Unaccompanied Children Operations (KRC1)

Division of Planning and Logistics (KRC2)

Division of Health for Unaccompanied Children (KRC3)

II. Under Chapter KR, Office of Refugee Resettlement, delete KR.20 Functions in its entirety and replace with the following:

KR.20 Function. A. The Office of the Director reports directly to the Assistant Secretary for Children and Families and is responsible for carrying ORR's mission and providing guidance and general supervision to the components of ORR. The Office provides direction in the development of program policy and budget and in the formulation of salaries and expense budgets. Staff also provide administrative and personnel support services.

The Office of the Director coordinates with the lead refugee and entrant program offices of other Federal departments; provides leadership in representing refugee and entrant programs, policies and administration to a variety of governmental entities and other public and private interests; and, acts as the coordinator of the total refugee and entrant resettlement effort for ACF and the Department. The Office oversees the care and custody of unaccompanied alien children, grants specific consent for those who wish to invoke the jurisdiction of a state court for a dependency order to seek Special Immigrant Juvenile (SIJ) status, and makes determinations of eligibility for the Unaccompanied Refugee Minors (URM) Program. The Office of the Director develops guidance, legislative proposals, and routine interpretations of policy. The Office of the Director also provides management and administrative services for the office, including the coordination of human resources activities. Within the Office of the Director, the Chief of Staff assists and advises the Director in implementing strategic initiatives and management priorities, and oversees communications for the office, including responses to media requests, congressional inquiries, and stakeholder engagement.

The Division of Policy and Procedures assesses and evaluates ORR programs and their legal authorities and proactively recommends policy development, legislative proposals, and operational and management actions to comply with statutory parameters as they relate to each of the program areas. The Division advises the ORR Director, deputies, division directors, and staff on a wide range of significant and sensitive policy-related matters and strategies for attaining ORR policy objectives including reviewing proposed legislation and assisting with responding to Congressional inquiries. The Division identifies major emerging legislative and policy issues, assesses impacts, develops policy options and strategies, and implements policy initiatives, including the drafting of policies, guidance and regulations. The Division consults with the ORR operating divisions in the creation and clearance of procedures, consistent with established regulations, policies and guidance, and implements training on policies and procedures for ORR staff. The Division of Policy and Procedures develops clearance and informational memoranda, briefing materials and summary statements for ORR, ACF, and department leadership on complex and sensitive ORR matters. The Division collaborates with the ORR operating divisions and regional staff to clarify and enhance existing policies and guidance, particularly in areas where the work of two or more divisions overlap. The Division of Policy and Procedures serves as the ORR point of contact for other ACF and HHS offices related to legal and evaluation issues, such as OGC, OLAB, GAO, and OIG. The Division represents ORR on interagency working groups and collaborates with both government and private sector leaders on ORR policy-related issues and developments.

The Division of Strategic Planning, Budget and Analysis leads ORR in the development, tracking, and implementation of strategic goals and performs budget, data analysis, and compliance functions for the office. The Division prepares annual budget estimates and related materials and performs allocation and tracking of funds for all programs. The Division performs analysis on the changing needs of the populations served by ORR programs, provides leadership to identify data needs and sources, and formulates data and reporting requirements. The Division also leads the office in the development of strategic goals and objectives and ensures that policies and operational and management activities are designed to achieve ORR, ACF and department goals. The Division develops and maintains standard monitoring procedures for the office and ensures the regular monitoring of ORR grant funds.

B. The Refugee Programs are responsible for carrying out programs that provide assistance to refugees, asylees, Cuban and Haitian entrants, and certain Amerasians and victims of severe forms of trafficking in persons. The Refugee Programs oversee the movement of children into the Unaccompanied Refugee Minor (URM) program. The Refugee Programs consist of the Division of Refugee Assistance, the Division of Refugee Services, and the Division of Refugee Health. The Refugee Programs collect and maintain data related to the populations served. The Deputy Director reports directly to the Director of ORR.

The Division of Refugee Assistance represents ORR in coordinating services and capacity for refugees in a manner that helps refugees become employed and economically self-sufficient soon after their arrival in the United States. The Division monitors and provides technical assistance to the State-administered domestic assistance programs and Wilson/Fish projects. The Division works closely with each State in designing a resettlement program specific to the needs of incoming populations. The Division develops guidance and procedures for their implementation; manages special initiatives to increase refugee self-sufficiency such as through State funded discretionary grants or pilot programs. The Division also assists public and private agencies on data reporting and the resolution of reporting problems. The Division develops and supports the flow of information on refugee profiles and community resources in support of effective placement at the State and local level. The Division works closely with the Department of State to ensure effective and seamless orientation from overseas to local resettlement community. The Division manages the effective allocation of formula social services and targeted assistance in support of newly arriving populations. The Division tracks all State costs related to refugee assistance.

The Division of Refugee Services manages effective refugee resettlement through the programmatic implementation of grants, contracts and special initiatives, such as the Match Grant Program. The Division oversees and monitors most ORR discretionary grants; recommends grantee allocation; coordinates with the grants management office to review the financial expenditures under discretionary grant programs; provides data in support of apportionment requests; and, provides technical assistance on discretionary grants operations. The Division coordinates and provides liaison with the Department and other Federal agencies on discretionary grant operational issues and other activities as specified by the Director or required by Congressional mandate. The Division responds to unanticipated refugee and entrant arrivals or significant increases in arrivals to communities where adequate or appropriate services do not exist through supplemental initiatives. The Division works to promote economic independence among refugees through social services, educational services, and intensive case management and community development initiatives.

The Division of Refugee Health provides direction for assuring that refugees are provided medical assistance and mental health services through the State-administered programs and alternative programs. The Division ensures the quality of medical screening and initial medical treatment of refugees through its administration of grant programs, technical assistance, and interagency agreements in support of comprehensive medical and mental health services. The Division also supports mental health services to victims of torture. The Division works closely with State Refugee Health Coordinators in the planning and provision of medical and mental health services to meet the individual needs of incoming populations. The Division tracks all state costs related to refugee medical assistance and screening.

C. The Unaccompanied Children Programs are directly responsible for providing services to unaccompanied children who are referred to ORR for care pending immigration status, or identified as victims of trafficking. The Unaccompanied Children Programs consists of the Division of Unaccompanied Children Operations, the Division of Planning and Logistics, and the Division of Unaccompanied Children's Health. Unaccompanied Children Programs staff ensures that services are administered in a manner that supports child welfare standards of care and services and complete regular monitoring of service provision. The Deputy Director reports directly to the Director of ORR.

The Division of Operations implements intake and placement decisions for all unaccompanied alien children. The Division supports specialized care through grants and contracts, and also conducts monitoring and inspections of facilities and placement locations in which unaccompanied children reside. The Division also maintains statistical information and data on each child and any actions concerning the child while the child is under ORR's care. The Division ensures consideration of the child's best interest in care and custody decisions. The Division coordinates all decisions related to sponsor reunification, background checks, home assessments, follow-up services, medical assessment and treatment, and repatriation. The Division administers the pro bono legal services and child advocate program and compiles a State-by-State list of professionals or entities qualified to provide the children with a guardian and attorney representational services. The Division also supports grants for services provided to children after their release from ORR care.

The Division of Planning and Logistics oversees the development of a comprehensive annual plan to ensure that Unaccompanied Children Programs are able to accommodate the number of referrals of children to ORR care. The Division prepares plans for anticipated shelter capacity and staffing needs. The Division leads coordination with other federal agencies and management of grants and contracts. If ORR requires temporary shelters to care for unaccompanied children, the Division leads the operational and logistical support for those shelters.

The Division of Health for Unaccompanied Children oversees the provision of health and medical services to unaccompanied children in ORR care. The Division reviews and approves orders for complex medical procedures and reviews test results for certain medical ailments. The Division also ensures reporting of public health information to the appropriate public health authorities.

III. Continuation of Policy. Except as inconsistent with this reorganization, all statements of policy and interpretations with respect to organizational components affected by this notice within ACF, heretofore issued and in effect on this date of this reorganization are continued in full force and effect.

IV. Delegation of Authority. Pending further delegation, directives or orders by the Director of ORR, all delegations and redelegations of authority made to officials and employees of affected organizational components will continue in them or their successors pending further redelegations, provided they are consistent with this reorganization.

V. Funds, Personnel, and Equipment. Transfer of organizations and functions affected by this reorganization shall be accompanied in each instance by direct and support funds, positions, personnel, records, equipment, supplies, and other resources.

This realignment is effective January 19, 2017.

Date: December 30, 2016.
Sylvia M. Burwell,
Secretary.

[FR Doc. 2017-00301 Filed 1-18-17; 8:45 am]

BILLING CODE 4184-34-P